SMALL BUSINESS ADMINISTRATION

Public Federal Regulatory Enforcement Fairness Hearing; Region III Regulatory Fairness Board

Pursuant to the Federal Advisory Committee Act, 5 U.S.C. Appendix 2, notice is hereby given that the U.S. Small Business Administration (SBA) Region III Regulatory Fairness Board and the SBA Office of the National Ombudsman will hold a National Regulatory Fairness Hearing on Tuesday, May 18, 2010, at 10 a.m. The forum is open to the public and will take place at the Virginia Housing and Development Authority, Virginia Housing Center, 4224 Cox Road, Glen Allen, VA 23060-3318. The purpose of the meeting is for Business Organizations, Trade Associations, Chambers of Commerce and related organizations serving small business concerns to report experiences regarding unfair or excessive Federal regulatory enforcement issues affecting their members.

Anyone wishing to attend or make a presentation must contact James Williams, in writing or by fax, in order to be placed on the agenda. James Williams, Lead Economic Development Specialist, SBA, Richmond District Office, Federal Building, Suite 1150, 400 N. 8th Street, Richmond, VA 23219-4829, phone (804) 771-2400, Ext. 123 and fax (202) 481-2326, e-mail: James.williams@sba.gov.

For more information, see our Web site at http://www.sba.gov/ombudsman.

Meaghan Burdick,
Deputy Chief of Staff.

[FR Doc. 2010-7799 Filed 4-6-10; 8:45 am]

BILLING CODE P